DEPARTMENT OF LABOR

Wage and Hour Division

Agency Information Collection Activities; Comment Request; Report of Construction Contractor's Wage Rates

AGENCY: Wage and Hour Division, Department of Labor.

ACTION: Notice.

SUMMARY: The Department of Labor (Department) is soliciting comments concerning a proposed extension of the information collection request (ICR) titled “Report of Construction Contractor's Wage Rates.” This comment request is part of continuing Departmental efforts to reduce paperwork and respondent burden in accordance with the Paperwork Reduction Act of 1995 (PRA). The Department proposes to extend the approval of this existing information collection without change to existing requirements.

This program helps to ensure that requested data can be provided in the desired format, reporting burden (time and financial resources) is minimized, collection instruments are clearly understood, and the impact of collection requirements on respondents can be properly assessed. A copy of the proposed information request can be obtained by contacting the office listed below in the FOR FURTHER INFORMATION CONTACT section of this Notice.

DATES: Written comments must be submitted to the office listed in the ADDRESSES section below on or before April 27, 2026.

ADDRESSES: You may submit comments identified by Control Number 1235-0015 by either one of the following methods:

• Email: WHDPRAComments@dol.gov.

• Mail, Hand Delivery, Courier: Division of Regulations, Legislation, and Interpretation, Wage and Hour, U.S. Department of Labor, Room S-3502, 200 Constitution Avenue NW, Washington, DC 20210.

Instructions: Please submit one copy of your comments by only one method. All submissions received must include the agency name and Control Number identified above for this information collection. Commenters are strongly encouraged to transmit their comments electronically via email or to submit them by mail early. Comments, including any personal information provided, become a matter of public record. They will also be summarized and/or included in the request for Office of Management and Budget (OMB) approval of the information collection request.

FOR FURTHER INFORMATION CONTACT: Daniel Navarrete, Daniel Navarrete, Director, Division of Regulations, Legislation, and Interpretation, Wage and Hour Division (WHD), U.S. Department of Labor, Room S-3502, 200 Constitution Avenue NW, Washington, DC 20210; telephone: (202) 693-0406 (this is not a toll-free number). Alternative formats are available upon request by calling 1-866-487-9243. If you are deaf, hard of hearing, or have a speech disability, please dial 7-1-1 to access telecommunications relay services.

SUPPLEMENTARY INFORMATION:

I. Background

The Davis-Bacon Act (DBA), as enacted in 1931 and subsequently amended, requires the payment of minimum prevailing wages determined by the Department of Labor to laborers and mechanics working on federal contracts in excess of $2,000 for the construction, alteration, or repair, including painting and decorating, of public buildings and public works. See 40 U.S.C. 3141 et seq. Congress has also included the Davis-Bacon requirements in numerous other laws, known as the Davis-Bacon Related Acts (the Related Acts), which provide federal assistance for construction projects through grants, loans, loan guarantees, insurance, and other methods.

The DBA delegates to the Secretary of Labor the responsibility to determine the wage rates that are “prevailing” for each classification of covered laborers and mechanics on similar projects “in the civil subdivision of the State in which the work is to be performed.” 40 U.S.C. 3142(b). The Administrator of the Wage and Hour Division, through this delegation of authority, is responsible for issuing these wage determinations (WDs). The DBA implementing regulations provide that, for the purpose of making WDs, the Administrator will conduct a continuing program for obtaining and compiling wage rate information. 29 CFR 1.3. As part of this program, the Administrator developed the WD-10 form to solicit information that is used to determine locally prevailing wages under the Davis-Bacon and Related Acts. The wage-data collection using the WD-10 form is a primary source of information and is essential to the determination of prevailing wages. The current WD-10 information collection, 1235-0015, has been approved by the Office of Management and Budget (OMB).

In addition, the Department uses the WD-10A form, which is a companion form to the WD-10 form. This form is used pre-survey to identify potential respondents that performed construction work within the survey period in the survey area, which enables the Department to solicit for survey participation. This pre-survey information request better identifies additional contractors that performed construction work in the survey area.

This information collection is subject to the PRA. A federal agency generally cannot conduct or sponsor a collection of information, and the public is generally not required to respond to an information collection, unless the OMB under the PRA approves it and displays a currently valid OMB Control Number. In addition, notwithstanding any other provisions of law, no person shall generally be subject to penalty for failing to comply with a collection of information that does not display a valid Control Number. See 5 CFR 1320.5(a) and 1320.6. The Department obtains OMB approval for this information collection under Control Number 1235-0015.

OMB authorization for an ICR cannot be for more than 3 years without renewal, and the current approval for this collection will expire on April 30, 2026. The Department seeks to extend PRA authorization for this information collection for 3 more years, without any change to existing requirements. The Department notes that existing information collection requirements submitted to the OMB receive a month-to-month extension while they undergo review.

Interested parties are encouraged to send comments to the Department at the address shown in the ADDRESSES section within 60 days of publication of this notice in the Federal Register. To help ensure appropriate consideration, comments should mention OMB Control Number 1235-0015.

II. Review Focus

The Department of Labor is particularly interested in comments which:

• Evaluate whether the proposed collection of information is necessary for the proper performance of the functions of the agency, including whether the information will have practical utility;

• Enhance the quality, utility, and clarity of the information to be collected;

• Evaluate the accuracy of the agency's estimate of the burden of the proposed collection of information, including the validity of the methodology and assumptions used;

• Minimize the burden of the collection of information on those who are to respond, including through the use of appropriate automated, electronic, mechanical, or other technological collection techniques or other forms of information technology, e.g., permitting electronic submissions of responses.

III. Current Actions

The Department of Labor seeks approval for a revision of this information collection in order to ensure effective administration of construction contractor wage rate programs.

Type of Review: Extension.

Agency: Wage and Hour Division.

Title: Report of Construction Contractor's Wage Rates.

OMB Control Number: 1235-0015.

Affected Public: Business or other for-profit, Not-for-profit institutions, Federal, State, Local, or Tribal Government.

Agency Numbers: Forms WD-10 and WD-10A.

Total Respondents: 276.

Total Annual Responses: 2,854.

Estimated Total Burden Hours: 947.66.

Estimated Time per Response: WD-10: 20 minutes, WD-10A: 10 minutes.

Frequency: On occasion.

Dated: February 19, 2026.
Daniel Navarrete,
Director, Division of Regulations, Legislation, and Interpretation.

[FR Doc. 2026-03701 Filed 2-24-26; 8:45 am]

BILLING CODE 4510-27-P